DEPARTMENT OF VETERANS AFFAIRS

Advisory Committee on the Readjustment of Veterans, Notice of Meeting Cancellation

The Department of Veterans Affairs (VA) gives notice under the Federal Advisory Committee Act, 5 U.S.C. Ch. 10, that the Advisory Committee on the Readjustment of Veterans meetings, previously scheduled to be held on January 27, at the Tulsa Vet Center, and on January 28 at the Muscogee Creek Nation Veterans Office, have been cancelled.

For more information, please Joshua A. Mathis, Designated Federal Officer, Readjustment Counseling Service (10RCS), at 313-310-3891 or email Joshua.Mathis@va.gov.

Dated: January 12, 2026.
Jelessa M. Burney,
Federal Advisory Committee Management Officer.

[FR Doc. 2026-00551 Filed 1-13-26; 8:45 am]

BILLING CODE 8320-01-P